DEPARTMENT OF ENERGY

Agency Information Collection Extension

AGENCY: U.S. Department of Energy.

ACTION: Notice and request for comments.

SUMMARY: The Department of Energy (DOE), pursuant to the Paperwork Reduction Act of 1995, is amending a Federal Register Notice published in the March 13, 2009, at 74 FR 10902. That Notice informed the public of the Department's intention to extend, for three years, an information collection request with the Office of Management and Budget (OMB). Comments were invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. The Department is amending this Notice to increase its estimate of the burden of the collection. The increase is the result of the American Recovery and Reinvestment Act (Act). DOE's original burden estimate was based on 24,241 recipients with a burden of 239,458 hours. The Act will increase the Department's awards of financial assistance by approximately $24 billion resulting in a revised estimate of 59,215 recipients with a burden of approximately 926,022 hours, an increase of 686,564 hours.

DATES: Comments regarding this proposed information collection must be received on or before August 31, 2009. If you anticipate difficulty in submitting comments within that period, contact the person listed below as soon as possible.

ADDRESSES: Written comments should be sent to the following: Denise Clarke, Procurement Analyst, MA-612/L'Enfant Plaza Building, U.S. Department of Energy, 1000 Independence Avenue, SW., Washington, DC, 20585-1615, deniset.clarke@hq.doe.gov.

FOR FURTHER INFORMATION CONTACT: Denise Clarke, at the above address, or by telephone at (202) 287-1748.

SUPPLEMENTARY INFORMATION: This information collection request contains: (1) OMB No. 1910-0400 [Renewal]; (2) Information Collection Request Title: Financial Assistance Information Collection; (3) Purpose: This package contains information collections necessary for solicitation, award, and administration and closeout of grants and cooperative agreements; (4) Estimated Number of Respondents: 59,215; (6) Estimated Number of Burden Hours: 926,022 hours.

Statutory Authority: Federal Grant and Cooperative Agreement Act, 31 U.S.C. 6301-6308.

Issued in Washington, DC on August 10, 2009.
Edward R. Simpson,
Director, Office of Procurement and Assistance Management, Department of Energy.

[FR Doc. E9-19710 Filed 8-14-09; 8:45 am]

BILLING CODE 6450-01-P